NUCLEAR REGULATORY COMMISSION

[NRC-2024-0004]

Advisory Committee on the Medical Uses of Isotopes: Meeting Notice; Correction

AGENCY: Nuclear Regulatory Commission.

ACTION: Notice of meeting; correction.

SUMMARY: The U.S. Nuclear Regulatory Commission (NRC) is correcting a notice that was published in the Federal Register on May 7, 2024, regarding a meeting notice of the Advisory Committee on the Medical Uses of Isotopes. This action is necessary to correct a Microsoft Teams meeting link.

DATES: The correction takes effect on May 21, 2024.

ADDRESSES: Please refer to Docket ID NRC-2024-0004 when contacting the NRC about the availability of information regarding this document. You may obtain publicly available information related to this document using any of the following methods:

• Federal Rulemaking Website: Go to https://www.regulations.gov and search for Docket ID NRC-2024-0004. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: L. Armstead, Office of Nuclear Material Safety and Safeguards, U.S. Nuclear Regulatory Commission, Washington, DC 20555-0001, telephone: 301-415-1650; email: Lillian.Armstead@nrc.gov.

SUPPLEMENTARY INFORMATION: In the Federal Register (FR) on May 7, 2024, in FR Doc. 2024-09901, on page 38198, in the Webinar information table, the Microsoft Teams link is incorrect. The correct Microsoft Teams link is as follows:

Link: https://teams.microsoft.com/l/meetup-join/19%3ameeting_M2Q4YzdhMjMtYzdmYS00MjdlLWFkMWMtOTliYWM5NDQ1MmQz%40thread.v2/0?context=%7b%22Tid%22%3a%22e8d01475-c3b5-436a-a065-5def4c64f52e%22%2c%22Oid%22%3a%22304f46bf-32c2-4e0f-912c-878db895e74a%22%7d

Dated at Rockville, Maryland this 16th day of May, 2024.
For the U.S. Nuclear Regulatory Commission.
Russell E. Chazell,
Federal Advisory Committee Management Officer.

[FR Doc. 2024-11100 Filed 5-20-24; 8:45 am]

BILLING CODE 7590-01-P